DEPARTMENT OF VETERANS AFFAIRS

[OMB Control No. 2900-0751]

Agency Information Collection (Supplier Perception Survey) Activity Under OMB Review

AGENCY: Office of Acquisition, Logistics and Construction, Department of Veterans Affairs.

ACTION: Notice.

SUMMARY: In compliance with the Paperwork Reduction Act (PRA) of 1995 (44 U.S.C. 3501-3521), this notice announces that the Office of Acquisition, Logistics and Construction, Department of Veterans Affairs, will submit the collection of information abstracted below to the Office of Management and Budget (OMB) for review and comment. The PRA submission describes the nature of the information collection and its expected cost and burden and includes the actual data collection instrument.

DATES: Comments must be submitted on or before March 12, 2012.

ADDRESSES: Submit written comments on the collection of information through www.Regulations.gov; or to VA's OMB Desk Officer, OMB Human Resources and Housing Branch, New Executive Office Building, Room 10235, Washington, DC 20503, (202) 395-7316. Please refer to “OMB Control No. 2900-2900-0751” in any correspondence.

FOR FURTHER INFORMATION CONTACT: Denise McLamb, Enterprise Records Service (005R1B), Department of Veterans Affairs, 810 Vermont Avenue NW., Washington, DC 20420, (202) 632-7479, fax (202) 273-0487 or email denise.mclamb@va.gov. Please refer to “OMB Control No. 2900-2900-0751.”

SUPPLEMENTARY INFORMATION:

Title: Department of Veterans Affairs Supplier Perception Survey.

OMB Control Number: 2900-2900-0751.

Type of Review: Extension of previously approved collection.

Abstract: The data collected will be used to improve the quality of services delivered to VA customers and to help develop key performance indicators in acquisition and logistics operations across VA enterprise.

An agency may not conduct or sponsor, and a person is not required to respond to a collection of information unless it displays a currently valid OMB control number. The Federal Register Notice with a 60-day comment period soliciting comments on this collection of information was published on November 15, 2011 on pages 70827-70828.

Affected Public: Business or other for-profit and Not-for-profit institutions.

Estimated Annual Burden: 35,100 hours.

Estimated Average Burden per Respondent: 45 minutes.

Frequency of Response: On occasion.

Estimated Number of Respondents: 45,840.

Dated: February 6, 2012.
By direction of the Secretary.
Denise McLamb,
Program Analyst, Enterprise Records Service.

[FR Doc. 2012-3070 Filed 2-9-12; 8:45 am]

BILLING CODE 8320-01-P